DEPARTMENT OF TRANSPORTATION

Surface Transportation Board

[STB Ex Parte No. 558 (Sub-No. 13)]

Railroad Cost of Capital—2009

AGENCY: Surface Transportation Board, DOT.

ACTION: Notice of decision instituting a proceeding to determine the railroad industry's 2009 cost of capital.

SUMMARY: The Board is instituting a proceeding to determine the railroad industry's cost of capital for 2009. The decision solicits comments on the following narrow issues: (1) The railroads' 2009 current cost of debt capital; (2) the railroads' 2009 current cost of preferred equity capital (if any); (3) the railroads' 2009 cost of common equity capital; (4) how the change in BNSF Railway Company's (BNSF's) share prices from November 2009 through December 2009, following the announcement of BNSF's acquisition by Berkshire Hathaway Inc., should be considered in calculating the 2009 cost of common equity capital; and (5) the 2009 capital structure mix of the railroad industry on a market value basis. Comments should focus on the various cost of capital components listed above using the same methodology followed in Railroad Cost of Capital—2008, Ex Parte No. 558 (Sub-No. 12) (STB served Sept. 25, 2009).

DATES: Notices of intent to participate are due by April 16, 2010. Statements of the railroads are due by May 17, 2010. Statements of other interested persons are due by June 15, 2010. Rebuttal statements by the railroads are due by July 15, 2010.

ADDRESSES: Comments may be submitted either via the Board's e-filing system or in the traditional paper format. Any person using e-filing should comply with the instructions at the E-FILING link on the Board's Web site, at http://www.stb.dot.gov. Any person submitting a filing in the traditional paper format should send an original and 10 copies to: Surface Transportation Board, Attn: STB Ex Parte No. 558 (Sub-No. 13), 395 E Street, SW., Washington, DC 20423-0001.

FOR FURTHER INFORMATION CONTACT: Pedro Ramirez at (202) 245-0333. [Assistance for the hearing impaired is available through the Federal Information Relay Service (FIRS) at 1-800-877-8339.]

SUPPLEMENTARY INFORMATION: The Board's decision is posted on the Board's Web site, http://www.stb.dot.gov. Copies of the decision may be purchased by contacting the Board's Office of Public Assistance, Governmental Affairs, and Compliance at (202) 245-0235. Assistance for the hearing impaired is available through FIRS at 1-800-877-8339.

This action will not significantly affect either the quality of the human environment or the conservation of energy resources.

Authority: 49 U.S.C. 10704(a).

Decided: March 29, 2010.
By the Board, Chairman Elliott, Vice Chairman Mulvey, and Commissioner Nottingham.
Kulunie L. Cannon,
Clearance Clerk.

[FR Doc. 2010-7411 Filed 4-1-10; 8:45 am]

BILLING CODE 4915-01-P